DEPARTMENT OF AGRICULTURE

Animal and Plant Health Inspection Service

[Docket No. APHIS-2018-0074]

Decision To Recognize Freedom From Citrus Longhorned Beetle and Asian Longhorned Beetle in Certain Countries

AGENCY: Animal and Plant Health Inspection Service, USDA.

ACTION: Notice.

SUMMARY: We are notifying the public that we are updating the U.S. Department of Agriculture Plants for Planting Manual by recognizing the United Kingdom and 21 European Union Member States as being free from citrus longhorned beetle (CLB) and Asian longhorned beetle (ALB) and removing them from the list of countries where CLB and ALB are present. We are also changing the entry conditions in the manual for imports of certain host plant taxa of CLB and ALB from Belgium, Denmark, the Netherlands, and the United Kingdom because they have previously approved genera exempted from the category of plants Not Authorized Pending Pest Risk Analysis. These changes will relieve certain restrictions on imports of host plants of CLB and ALB into the United States from Belgium, Denmark, the Netherlands, and the United Kingdom while continuing to mitigate the risk of introducing quarantine pests into the United States.

DATES: The changes to the entry conditions are effective June 12, 2024.

FOR FURTHER INFORMATION CONTACT: Mr. Narasimha C. Samboju, Senior Regulatory Policy Specialist, PHP, PPQ, APHIS, 4700 River Road, Unit 137, Riverdale, MD 20737; (301) 851-2038; narasimha.c.samboju@usda.gov.

SUPPLEMENTARY INFORMATION: Under the regulations in “Subpart H—Plants for Planting” (7 CFR 319.37-1 through 319.37-23, referred to below as the regulations), the Animal and Plant Health Inspection Service (APHIS) of the U.S. Department of Agriculture (USDA) prohibits or restricts the importation of plants for planting (including living plants, plant parts, seeds, and plant cuttings) to prevent the introduction of quarantine pests into the United States. Quarantine pest is defined in § 319.37-2 as a plant pest or noxious weed that is of potential economic importance to the United States and not yet present in the United States, or present but not widely distributed and being officially controlled. In accordance with § 319.37-20, APHIS may impose quarantines and other restrictions on the importation of specific types of plants for planting. These restrictions are listed in the USDA Plants for Planting Manual.¹ Under § 319.37-20, if APHIS determines it is necessary to add, change, or remove restrictions on the importation of a specific type of plant for planting, we will publish in the Federal Register a notice that announces the proposed change to the manual and invites public comment.

¹ https://www.aphis.usda.gov/import_export/plants/manuals/ports/downloads/plants_for_planting.pdf.

On July 17, 2019, we published in the Federal Register (84 FR 34116-34117, Docket No. APHIS-2018-0074) a notice ² in which we proposed to update the USDA Plants for Planting Manual by recognizing 22 European Union (EU) Member States ³ as being free from citrus longhorned beetle (CLB) and Asian longhorned beetle (ALB) and removing them from the list of countries where CLB and ALB are present. We also proposed changing the entry conditions in the manual for imports of certain host plant taxa of CLB and ALB from Belgium, Denmark, the Netherlands, and the United Kingdom because they have previously approved genera exempted from the category of plants Not Authorized Pending Pest Risk Analysis.

² To view the notice, supporting documents, and the comment we received, go to http://www.regulations.gov and enter APHIS-2018-0074 in the Search field.

³ As the United Kingdom is no longer part of the European Union, we changed the number to 21 Member States in this final notice to reflect this change.

We solicited comments on the notice for 60 days ending on September 16, 2019. We received one comment by that date, from a foreign government.

The commenter noted that we proposed to recognize ALB and CLB freedom in certain EU countries but not in pest-free areas within other EU countries where ALB or CLB outbreaks have occurred. The commenter asked that we not only recognize pest freedom in the countries identified in the notice but also within the pest-free areas of EU countries that have had outbreaks, noting that the United States had been provided with information showing that ALB and CLB are being contained successfully in pest-free areas of the EU in accordance with international standards.

In our notice, we acknowledged receiving the supporting information cited by the commenter and used it to prepare a commodity import evaluation document. However, for this request, we only evaluated criteria for recognition of ALB/CLB freedom by country and not by pest-free area recognition. Before APHIS can consider recognizing freedom for pest-free areas, we will need to engage in further evaluation and consultation with the European Commission.

Based on our current evaluation, we are recognizing the United Kingdom and 21 EU Member States as being free from ALB and CLB and removing them from the lists of countries where those pests are present. We are only recognizing EU Member States that are free from both pests or that eradicated an infestation at least 3 years ago. The EU Member States that continue to be listed as countries where ALB and/or CLB are present are: Austria, Croatia, Finland, France, Germany, and Italy.

We are also changing the entry conditions in the manual for imports of certain host plant taxa of CLB and ALB from Belgium, Denmark, the Netherlands, and the United Kingdom because they have previously approved genera exempted from the category of plants Not Authorized Pending Pest Risk Analysis.

Congressional Review Act

Pursuant to the Congressional Review Act (5 U.S.C. 801 et seq.), the Office of Information and Regulatory Affairs designated this action as not a major rule, as defined by 5 U.S.C. 804(2).

Authority: 7 U.S.C. 1633, 7701-7772, and 7781-7786; 21 U.S.C. 136 and 136a; 7 CFR 2.22, 2.80, and 371.3.

Done in Washington, DC, this 5th day of June 2024.
Michael Watson,
Administrator, Animal and Plant Health Inspection Service.

[FR Doc. 2024-12830 Filed 6-11-24; 8:45 am]

BILLING CODE 3410-34-P